DEPARTMENT OF HEALTH AND HUMAN SERVICES

45 CFR Part 18

Official Symbol, Logo and Seal

AGENCY: Office of the Secretary, HHS.

ACTION: Direct final rule.

SUMMARY: The U.S. Department of Health and Human Services (HHS) is adopting requirements on the use of its official logo and seal. Use by any person or organization may be made only with prior written approval. Wrongful use of an official logo or seal is subject to administrative action and/or criminal penalty. HHS believes that this rule is non-controversial, and HHS anticipates no significant adverse comment. If HHS receives a significant adverse comment, it will withdraw the rule.

DATES: This rule is effective May 14, 2014 without further action, unless adverse comment is received by April 29, 2014. If adverse comment is received, HHS will publish a timely withdrawal of the rule in the Federal Register.

ADDRESSES: You may submit comments by Mail/Hand Delivery/Courier to: Gloria Barnes, Office of the Assistant Secretary for Public Affairs, 200 Independence Avenue SW., Washington, DC 20201.

FOR FURTHER INFORMATION CONTACT: Gloria Barnes, Office of the Assistant Secretary for Public Affairs (gloria.barnes@hhs.gov)

SUPPLEMENTARY INFORMATION: HHS is adopting regulations (45 CFR Part 18) on the use of its official logo and seal. HHS has developed a logo and seal that signifies the authoritativeness of the item or document to which it is affixed as an official endorsement of HHS. The logo and seal is to be used for official HHS business or as approved under HHS' regulations.

HHS believes there is good cause to bypass notice and comment and proceed to a direct final rule pursuant to 5 U.S.C. 553(b). The rule is non-controversial and merely describes HHS' official logo and seal. Because this rule only impacts HHS' procedure and practice, notice and comment is unnecessary. Although HHS believes this direct final rule will not elicit any significant adverse comments, if such comments are received, HHS will publish a timely notice of withdrawal in the Federal Register.

Executive Order No. 12866

This rule does not meet the criteria for a significant regulatory action under Executive Order 12866. Thus, review by the Office of Management and Budget is not required.

Regulatory Flexibility Act

This rule will not have a significant economic impact on a substantial number of small entities. Therefore, a regulatory flexibility analysis as provided by the Regulatory Flexibility Act, as amended, is not required.

List of Subjects in 45 CFR Part 18

Seals and insignia.

For the reasons set out in the preamble, HHS adds Part 18 to Title 45, Subtitle A, subchapter A of the Code of Federal Regulations as follows:

Subtitle A—Department of Health and Human Services

Subchapter A—General Administration

PART 18—OFFICIAL SYMBOL, LOGO, AND SEAL

Sec.
18.1 Description of the Symbol, Logo, and Seal.
18.2 Authority to affix Symbol, Logo, and Seal.
18.3 Official, unofficial or misuse of HHS emblems.
18.4 Prohibitions against unofficial use or misuse of the Symbol, Logo, or Seal.
18.5 Compliance and enforcement.

Authority: 42 U.S.C. 3505; 5 U.S.C. 301.

§ 18.1 Description of the Symbol, Logo, and Seal.

(a) The Departmental Symbol (Symbol) of the Department of Health and Human Services (HHS) is the key element in Department identification. It represents the American People sheltered in the wing of the American Eagle, suggesting the Department's concern and responsibility for the welfare of the people. This Symbol is the visual link which connects the graphic communications of all components and programs of the Department. It is the major design component for the Department Identifiers—the Department Logo, Seal, and Signatures.

(b) The Symbol is described as follows: The outline of an American Eagle, facing left, with one of its wings stretched upward and the other wing pointed downward, is flanked on its right side by two outlines of the profile of a human head, both of which are located in between the eagle's wings. One of the profile outlines is smaller than the other and is nestled in the larger outline.

(c) The HHS Departmental Logo (Logo) incorporates the Symbol and is described as follows: From the tip of the outstretched wing of the American Eagle in the Symbol to the tip of the other, downward-facing wing, the words, “DEPARTMENT OF HEALTH & HUMAN SERVICES • USA” form a circular arc.

(d) The HHS Departmental Seal (Seal) incorporates the Symbol and is described as follows: Starting from the tip of the downward-facing wing of the American Eagle in the HHS Symbol and forming a complete circle clockwise around the HHS Symbol, the words, “DEPARTMENT OF HEALTH & HUMAN SERVICES • USA •” are printed, surrounded by a border composed of a solid inner ring at the base of the text and a triangular, scalloped edge at the top of the text.

(e) The HHS Departmental Symbol, Logo, and Seal shall each be referred to as an HHS emblem and shall collectively be referred to as HHS emblems.

§ 18.2 Authority to affix Symbol, Logo or Seal.

HHS emblems cannot be used for other than official HHS business without written authorization from the Secretary or the Secretary's designee. Authority to provide authorization is delegated to the Assistant Secretary for Public Affairs (ASPA) or its designee.

§ 18.3 Official, unofficial or misuse of HHS emblems.

HHS emblems are for use by HHS employees conducting official HHS business. HHS emblems cannot be used non-Federal organizations on its materials without written authorization from HHS.

Note to § 18.3: Non-Federal organizations refers to private sector, non-profit, advocacy, and commercial organizations, including HHS contractors and grantees.

§ 18.4 Prohibitions against unofficial use or misuse of the Symbol, Logo, or Seal.

Any person who uses an HHS emblem in a manner inconsistent with the provision of this part may be subject to penalties under 18 U.S.C. 506, 18 U.S.C. 1017, or 42 U.S.C. 1320b-10.

§ 18.5 Compliance and enforcement.

In order to ensure adherence to the authorized uses of an HHS emblem, as provided in this part, a report of each suspected violation of this part or of questionable usage of any HHS emblem shall be submitted to the Inspector General, HHS Headquarters.

Dated: April 7, 2014.
Kathleen Sebelius,
Secretary.

[FR Doc. 2014-08190 Filed 4-11-14; 8:45 am]

BILLING CODE 4150-04-P